DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene a meeting of the Hawaii Regional Ecosystem Advisory Committee (REAC) in Honolulu, HI.

DATES: The Hawaii REAC meeting will be held Friday, May 11, 2012. For the specific date, times, and agenda for the meeting see SUPPLEMENTARY INFORMATION.

ADDRESSES: The meeting of the Hawaii REAC will be held at the Council Office, 1164 Bishop St. Suite 1400, Honolulu, HI 96814.

FOR FURTHER INFORMATION CONTACT: Kitty M. Simonds, Executive Director; telephone: (808) 522-8220.

SUPPLEMENTARY INFORMATION: Schedule and Agenda for the Hawaii Regional Ecosystem Advisory Committee Meeting:

8:30 a.m.-5 p.m. Friday, May 11, 2012

1. Welcome and Introduction of Members

2. Approval of Draft Agenda

3. REAC Overview and 2011 Meeting Recommendations

4. Agency Protected Species Overview and Updates

a. Federal Endangered Species Act (ESA), Marine Mammal Protection Act (MMPA), Migratory Bird Treaty Act (MBTA) Updates

b. State of Hawaii Protected Species Rules, Regulations and Updates

5. Protected Species in Our Ecosystem

a. Humpback Whales

i. Status of Humpback Whale Hawaii Breeding Population

ii. Ecosystem Impacts of Humpback Whales in the North Pacific Foraging Grounds

b. Odontocetes (Toothed Whales)

i. Marine Mammal Protection Act: What You Should Know

ii. List of Fisheries and Hawaii Troll and Charter Fisheries

iii. Fishermen's Perspective on Marine Mammal Interactions

iv. Discussion on Monitoring and Addressing Small Vessel Fishery Impacts on Odontocetes

c. ESA Petition and Status of Review for Coral

i. Coral Status Review

ii. REAC Review and Discussion of the Coral Management Report

d. ESA Petition for Hawaiian Green Turtles

i. Green Turtle Petition & Review Process

ii. State of Hawaii Green Turtle Management Plan

iii. Discussion on Future Green Turtle Management in Hawaii

6. Public Comments

7. Discussion and Recommendations

The order in which agenda items are addressed may change. Public comment periods will be provided throughout each agenda. The REAC will meet as late as necessary to complete scheduled business.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 20, 2012.
Tracey L. Thompson,
Acting Director, Office of Sustainable Fisheries, National Marine Fisheries Service.

[FR Doc. 2012-9950 Filed 4-24-12; 8:45 am]

BILLING CODE 3510-22-P